DEPARTMENT OF HEALTH AND HUMAN SERVICES

Administration for Children and Families

Proposed Information Collection Activity; Comment Request

Title: Personal Responsibility Education Program (PREP); Promising Youth Programs (PYP).

OMB No.: New Collection.

Description: The Personal Responsibility Education Program (PREP) grants provide education to adolescents on both abstinence and contraception for the prevention of pregnancy and sexually transmitted infections, including HIV/AIDS, as well as education on additional topics to prepare youth for adulthood. PREP programs are overseen by the Family and Youth Services Bureau (FYSB), in the Administration for Children and Families (ACF), in the U.S. Department of Health and Human Services (HHS).

The Promising Youth Programs (PYP) project supports PREP programming in two ways. First, it supports grantees as they collaborate with independent evaluators to conduct evaluations of their programs. Second, it is working to develop curricula for underserved youth. PYP is overseen by ACF's Office of Planning, Research, and Evaluation (OPRE). To support the PYP project, FYSB and OPRE seek approval to collect the following information:

(1) Abstract template: We will annually ask grantees and their independent evaluators to develop/update abstracts about their programs/evaluations.

(2) CONSORT (CONsolidated Standards Of Reporting Trials) diagram template: We will bi-annually ask grantees and their independent evaluators for information about study recruitment, enrollment, and retention.

(3) Baseline equivalence template: We will bi-annually ask grantees and their independent evaluators for information that demonstrates whether program and comparison groups are comparable.

(4) Implementation analysis plan template: In Year 2 of their grants we will ask grantees and their independent evaluators for information that outlines their implementation analysis plans.

(5) Youth discussions topic guide: We will hold discussions with youth from target populations about their perceptions of PREP-related programming.

Respondents: We will ask grantees and their independent evaluators for information related to (1), (2), (3), and (4). We will ask youth from target populations for information related to (5).

Annual Burden Estimates
[3 year information collection]
Instrument | Total number of respondents | Annual number of respondents | Number of responses per respondent per year | Average burden hours per response | Annual burden hours
(1) Abstract template | 29 | 29 | 1 | 3 | 87
(2) CONSORT diagram template | 29 | 29 | 2 | 1 | 58
(3) Baseline equivalence template | 16 | 16 | 2 | 2 | 64
(4) Implementation analysis plan template | 29 | 10 | 1 | 5 | 50
(5) Youth discussions topic guide | 64 | 21 | 1 | 1.5 | 32
Estimated Total Annual Burden Hours: 291.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2016-25231 Filed 10-18-16; 8:45 am]

BILLING CODE 4184-37-P